SECURITIES AND EXCHANGE COMMISSION

[Release No. 34-76156; File No. SR-BYX-2015-43]

Self-Regulatory Organizations; BATS Y-Exchange, Inc.; Notice of Filing and Immediate Effectiveness of a Proposed Rule Change To Amend Rule 3.22, Concerning Gifts and Gratuities in Relation to the Business of the Employer of the Recipient, and Renaming the Rule “Influencing or Rewarding Employees of Others”

October 15, 2015.

Correction

In notice document 2015-26577, appearing on pages 63624-63626 in the issue of Tuesday, October 20, 2015, make the following correction:

On page 63626, in the third column, in the twenty-eighth line from the top, “October 23, 2015” should read “November 10, 2015”.

[FR Doc. C1-2015-26577 Filed 11-2-15; 8:45 am]

BILLING CODE 1505-01-D